DEPARTMENT OF HEALTH AND HUMAN SERVICES

Administration for Children and Families

Invitation To Comment on Proposed Data Composites and Potential Performance Areas and Measures for the Child and Family Services Review

AGENCY: Children's Bureau (CB), Administration on Children, Youth and Families (ACYF), Administration for Children and Families (ACF), Department of Health and Human Services.

ACTION: Invitation to comment on proposed data composites and potential performance areas and measures for the Federal Child and Family Services Review (CFSR).

SUMMARY: This notice is to advise the public of ACF's plan to replace the six national data measures used for the CFSR with six data composites addressing the child welfare domains of maltreatment recurrence, maltreatment in foster care, timeliness of adoptions, timeliness of reunifications, placement stability, and permanency for children. The plan to develop data composites is a response to a recommendation made by a consultant under contract with ACF to study the CFSR process. The recommendation is based on input from a CFSR workgroup convened by the consultant at the end of the first round of CFSRs to assist in identifying areas needing improvement.

ACF expects that each data composite will incorporate multiple performance areas and measures relevant to a specific domain. ACF plans to use State performance on the data composites as part of its evaluation of a State's substantial conformity with specific outcomes assessed through the CFSR. National standards will be developed for each of the domains represented by the six data composites.

ACF's plan to replace existing measures with data composites is consistent with the final CFSR regulation at 45 CFR 1355.34(b)(4) and (5), which authorizes the Secretary of HHS to add, amend, or suspend any of the statewide data indicators when appropriate, and to adjust the national standards when appropriate. The proposed plan also complies with the requirements of section 1123A of the Social Security Act (the Act) for ACF to assess State child welfare agencies' compliance with titles IV-B and IV-E of the Act as implemented in 45 CFR 1355.31 through 1355.37.

We invite the public to comment on the data composites, performance areas, and measures proposed in this announcement.

DATES: Written comments must be submitted to the office listed in the address section below either by mail or e-mail on or before (30 days).

ADDRESSES: Mail Address: Children's Bureau, 370 L'Enfant Promenade SW., Washington, DC 20447. E-mail address: cfsrmeasures@acf.hhs.gov.

FOR FURTHER INFORMATION CONTACT: John Hargrove, 202-205-8634.

SUPPLEMENTARY INFORMATION:

CFSR and Existing Outcome Measures

The CFSR is ACF's results-oriented comprehensive monitoring system designed to promote continuous improvement in the outcomes experienced by children and families who come into contact with State public child welfare agencies. ACF developed the CFSR in response to a mandate in the Social Security Amendments of 1994 (see section 1123A of the Social Security Act) for the Department of Health and Human Services to promulgate regulations for reviews of State child and family services programs under titles IV-B and IV-E of the Social Security Act. ACF's final regulations on the CFSR process, issued in 2000, can be found at 45 CFR 1355.31 through 1355.37. Between fiscal years (FY) 2001 and 2004, ACF conducted a CFSR of every State, the District of Columbia, and Puerto Rico.

The CFSR assesses State performance on seven outcomes, seven systemic factors, and six national data measures that ACF adapted from measures originally developed for the Report to Congress on Child Welfare Outcomes (see attachment A for the report to Congress measures and the CFSR Outcomes). Data for the six national data measures come from the Adoption and Foster Care Analysis and Reporting System (AFCARS) and the National Child Abuse and Neglect Data System (NCANDS). AFCARS is a federally mandated data system established for the collection of foster care and adoption data. NCANDS is a voluntary data collection system that is the primary source of national information on abused and neglected children who are known to State agencies providing child protective services.

ACF established national standards for each of the six data measures and used the standards as part of the assessment of a State's substantial conformity with particular outcomes. ACF described these six data measures in the preamble to the final CFSR regulation, published in the Federal Register (65 FR 4024-4025). This same citation provides information on how ACF calculated the national standards associated with each of the six data measures. Subsequently, ACF issued information memoranda on the specific national standards that would be used in the initial CFSR implementation (see ACYF-CB-IM-00-11 and ACYF-CB-IM-01-07).

The following performance measures and national standards were used during the first round of CFSRs as part of the assessment of a State's substantial conformity with CFSR Safety Outcome 1—Children are, first and foremost, protected from abuse and neglect:

• Repeat maltreatment—Of all children who were victims of substantiated or indicated child abuse and/or neglect during the first 6 months of the reporting period, 6.1 percent or less had another substantiated or indicated report within a 6-month period.

• Maltreatment of children in foster care—Of all children who were in foster care during the reporting period, 0.57 percent or less were the subject of substantiated or indicated maltreatment by a foster parent or facility staff member.

The following performance measures and national standards were used as part of the assessment of a State's substantial conformity with CFSR Permanency Outcome 1—Children will have permanency and stability in their living situations:

• Timeliness of reunification—Of all children who were reunified with their parents or caretakers at the time of discharge from foster care, 76.2 percent or more were reunified in less than 12 months from the time of the latest removal from home.

• Re-entry into foster care—Of all children who entered foster care during the reporting period, 8.6 percent or less were re-entering foster care within 12 months of a prior foster care episode.

• Timeliness to adoption—Of all children who exited foster care to a finalized adoption, 32 percent or more exited foster care in less than 24 months from the time of the latest removal from home.

• Placement stability—Of all children who have been in foster care for less than 12 months from the time of the latest removal from home, 86.7 percent or more have had no more than 2 placement settings.

Recommendation To Develop Data Composites

ACF views the CFSR as a dynamic process and has made ongoing improvements in the process in response to lessons learned in the field and to recommendations from State child welfare agency administrators. After completion of the first round of CFSRs in FY 2004, ACF contracted with a consultant to study the CFSR and make further recommendations regarding strategies for improvement. To assist them in this task, the consultant convened a CFSR workgroup of State child welfare agency administrators and child welfare researchers and, based on input from this workgroup, produced a set of recommendations for ACF. One recommendation was to replace the existing CFSR single data measures for which national standards were established with data composites that incorporate a wider range of performance areas relevant to a particular child welfare domain. ACF proposes to implement this recommendation for the following reasons:

• The recommendation is consistent with our observations during the first round of the CFSR that expanding the scope of data pertaining to a particular child welfare domain will provide a more effective assessment of State performance. For example, expanding the scope of data pertaining to the timeliness of reunification will address various performance areas relevant to this domain, including the permanency of the reunification.

• Data composites will provide a more holistic view of State performance in a particular domain than a single data measure can achieve. For example, the current CFSR measure of timeliness of adoption considers the percentage of children adopted within 24 months of entering foster care, but not children's experiences with regard to the timeframes between key points in the adoption process, such as the time from termination of parental rights (TPR) to a finalized adoption.

• Data composites will ensure that the data component of a State's performance with regard to a particular domain will not depend on one measure. For example, a State's performance regarding the data composite for the domain of timeliness to adoption may be uneven, with performance higher in one area than in another. However, overall performance on the composite may be high relative to other States. Thus, the data composite will account for both the strengths and weaknesses that a State exhibits within a particular domain.

• Data composites will allow the development of national standards that account for variation in State practices and policies. For example, there are differences in State policies and practices regarding reunification. In some States, children are physically reunified with families several months before legal custody is transferred to parents or guardians. States indicate that this practice allows them to ensure that the families receive the services and monitoring necessary to support the reunification process. In contrast, in other States, legal custody and physical custody are transferred simultaneously. Using data composites for the domain of timeliness of reunification will enhance ACF's ability to account for these variations in practice.

• Data composites are being successfully used by the Federal government to assess other programs. For example, composite measures are being developed and used for the No Child Left Behind initiative. In addition, composite measures have been used to evaluate the performance of hospitals in various health-related domains.

Although the methodology for calculating the scores for the data composites has not been finalized, the following describes the approach that is under consideration:

Possible composite methodology: Six data composites are under consideration (these are described in the section below), with each composite pertaining to a different domain of child welfare practice (i.e., recurrence of maltreatment, maltreatment of children in foster care, timeliness of reunifications, timeliness of adoptions, placement stability, and achieving permanency). It is expected that each composite will incorporate two or more performance areas, with a specific measure developed for each performance area. The final performance areas to be included in each data composite will depend upon the following: (1) Input from the field in response to this announcement, and (2) the results of principle components analyses regarding the viability of inclusion of specific performance areas in a particular domain. The principle components analyses also will permit a determination of the relative contribution of each performance area to the overall domain represented by the data composite. Once the performance areas and measures are identified, a score will be calculated for each State for each data composite based on the appropriate weighting (as determined from the analyses) of a State's performance in each of the performance areas.

For each data composite, ACF is considering using the distribution of scores across States to establish a national standard (the methodology to be used to set the standard has not yet been determined). This will result in six separate standards, one for each domain. Because the primary purpose of a data composite is to capture overall performance in a particular domain, ACF will not establish a national standard for the individual performance areas incorporated in the composites. Therefore, States will not be expected to meet a standard for any individual performance area but to achieve an overall performance level in a particular domain related to safety or permanency. However, ACF will provide States with information regarding each performance area with regard to the mean, median, and range of scores across States to enable a State to identify the performance areas within a composite where improvements may be needed.

ACF proposes to use the national standards developed for the data composites as part of the assessment of State performance in the second round of CFSRs. These will be used in conjunction with findings from the CFSR onsite case reviews in the overall determination of a State's substantial conformity with specific outcomes.

Proposed Data Composites and Performance Areas

A table providing a comparison of the existing CFSR data measures and the proposed data composites and performance areas is provided in attachment B. Additional information regarding the data composites and performance areas is presented below. The criteria for selection of measures for each performance area are the following: (1) They must be measurable using data available from AFCARS and NCANDS, and (2) they must be measurable within the CFSR timeframes for assessing State improvement in performance.

CFSR Safety Outcome 1: Children are First and Foremost Protected From Abuse and Neglect

Safety Composite 1: Recurrence of Maltreatment

Performance on Safety Composite 1—Recurrence of maltreatment—will be part of the assessment of a State's substantial conformity with CFSR Safety Outcome 1—Children are, first and foremost, protected from abuse and neglect. Safety Composite 1 reflects the responsibility of a State child welfare system to ensure the ongoing safety of children who come into contact with the system through a maltreatment allegation.

The following performance areas are under consideration for this data composite:

• Recurrence of substantiated or indicated maltreatment reports.

• Multiple unsubstantiated maltreatment reports.

• Timeliness of initiating investigations of child maltreatment reports.

• Timeliness of dispositions of maltreatment reports.

Safety Composite 1—Performance Area 1: Recurrence of Substantiated or Indicated Maltreatment Reports

Justification for inclusion: This performance area provides an assessment of a child welfare agency's effectiveness in responding to the safety of children who are found to be victims of abuse or neglect.¹ It addresses the question of whether the agency took the necessary actions to ensure that the children do not experience abuse or neglect again.

¹ InChild Maltreatment 2003, a child victim is defined as a child for whom an incident of abuse or neglect has been substantiated or indicated by an investigation or assessment.

Possible measure: Of all children who were victims of substantiated or indicated child abuse and/or neglect during the first 6 months of the reporting period, what percentage had another substantiated or indicated report within a 6-month period? This is the measure that was used during the first round of CFSRs to assess maltreatment recurrence.

Relevant issues: This measure focuses on recurrence within a 6-month period because it is not possible to link children reported to the NCANDS Child File across years. In support of the measure, research findings suggest that the incidence of occurrence of a substantiated maltreatment report within 12 months of a prior substantiated report is not significantly greater than the incidence of recurrence within 6 months.²

² Fluke, J. et al. (1999). Recurrence of maltreatment: An application of the National Child Abuse and Neglect Data System. Child Abuse and Neglect, 23 (7), 633-650. DePanfilis, D., and Zuravin, S. (1998). Rates, patterns, and frequency of child maltreatment recurrences among families known to CPS. Child Maltreatment, 3 (1), 27-42.

Some CFSR workgroup participants recommended that the CFSR include measures designed to identify the types of maltreatment that recur and the characteristics (such as age and race/ethnicity) of children who are the victims of maltreatment recurrence. ACF determined that, although these measures address important research questions about maltreatment recurrence and are appropriate for a research initiative, they are beyond the scope of the CFSR, which is intended to provide a general assessment of State performance in particular domains. However, ACF encourages States to examine their own data to identify the factors associated with maltreatment recurrence.

Safety Composite 1—Performance Area 2: Multiple Unsubstantiated Maltreatment Reports

Justification for inclusion: ACF is seeking input from the field regarding the feasibility of capturing as part of Safety Composite 1 the child safety issues relevant to multiple “unsubstantiated” maltreatment reports. (The term “unsubstantiated report” does not include maltreatment allegations that are not accepted for investigation [i.e., are “screened out], those that are investigated and found to be “intentionally false,” or those that are “closed without a finding.³”) Research findings indicate the following: (1) Children who are the subject of unsubstantiated maltreatment reports are highly likely to have experienced abuse or neglect, (2) there is extensive variation across States regarding the criteria used to make a substantiation determination, and (3) the decision as to whether a maltreatment report is substantiated or unsubstantiated often is not based on consistent criteria even within a State.⁴ In addition, a recent finding of the federally funded study entitled Longitudinal Studies of Child Abuse and Neglect, found no differences in the behavioral and developmental outcomes of 8-year-old children with unsubstantiated and substantiated maltreatment reports filed when the children were between the ages of 4 and 8.⁵

³ The major NCANDS disposition categories are defined in Child Maltreatment, 2002, U.S. Department of Health and Human Services, Administration on Children, Youth and Families.

⁴ Drake, B. (1996). Unraveling “unsubstantiated.” Child Maltreatment, 1 (3), 261-271. English et al. (2002). Causes and consequences of the substantiation decision in Washington State Child Protective Services. Children and Youth Services Review, 24 (11), 817-851. Leiter et al. (1994). Substantiated and unsubstantiated cases of child maltreatment: Do their consequences differ? Social Work Research, 18 (2), 67-82.

⁵ Hussey, J. et al. (2005). Defining maltreatment according to substantiation: Distinction without a difference? Presentation at the 15th National Conference on Child Abuse and Neglect, Boston, MA: April, 2005.

Possible measure: ACF welcomes comments from the field regarding possible measures for this performance area. Although research findings suggest that a child who is the subject of multiple unsubstantiated maltreatment reports is likely to be experiencing maltreatment recurrence, ACF is concerned that a measure developed for this performance area may result in unintended consequences. For example, States that have a practice of monitoring families in which a child is the subject of an unsubstantiated report or of providing services to these families may be discouraged from implementing these practices if the ongoing surveillance of the family increases the likelihood that a subsequent maltreatment allegation (either substantiated or unsubstantiated) may occur. ACF also wants to ensure that the measure will, for the most part, exclude maltreatment allegations that are without merit.

Relevant issues: Although several participants in the CFSR workgroup recommended that a measure of recurrence of unsubstantiated reports should be incorporated into the CFSR safety assessment, a few were not in accord with this recommendation. Those that were opposed to the recommendation expressed the concerns identified above.

Safety Outcome 1—Performance Area 3: Timeliness of Initiating Investigations of Child Maltreatment Reports

Justification for inclusion: NCANDS defines the initial investigation as beginning when the child protective services (CPS) agency has face-to-face contact with, or attempts to have face-to-face contact with, the alleged victim. If face-to-face contact with the alleged victim is not possible, the initial investigation is considered as beginning when CPS first contacts any party who can provide information essential to the investigation or assessment. ACF's proposal to include timeliness of initiating investigations as a performance area for Safety Composite 1 is based on the following assumptions:

• The continued risk of harm to a child who is the subject of a maltreatment report is best assessed through face-to-face contact with the child, and

• Protection of the child is enhanced when this face-to-face contact occurs quickly after a maltreatment report is received by the agency.

Possible measures: Two measures of this performance area are under consideration and are provided for review and comment.

• During the reporting year, of all children who were the subject of an investigation conducted in response to a report alleging maltreatment, what was the mean (or median) length of time between receipt of the report and the initiation of the investigation?

• During the reporting year, of all children who were the subject of an investigation conducted in response to a report alleging maltreatment, what percent had investigations that were initiated in the following timeframes:

Within 1 day (24 hours)?—This timeframe is conceptualized as a “timely response.”

After 7 days?—This timeframe is conceptualized as one that did not adequately address the safety of the child.

Relevant issues: Because ACF believes that the ongoing risk of harm to a child is most effectively assessed through face-to-face contact with the child and family, and that this contact should take place quickly after a report is received, the proposed measures do not address variation across States with regard to required timeframes for responding to a maltreatment report, which range from a few hours to a few weeks (with a few States having no time requirements). The measures also do not take into account the “priority” systems established by many States that result in assigning different timeframes to different reports based on perceived risk of harm to the child. These timeframes also range from a few hours to a few weeks.

Some States have established an “alternative response” (also called a differential response) to maltreatment reports. Under this approach, a maltreatment report may be referred for an assessment of the family rather than for an investigation to determine whether child maltreatment did or did not occur. Usually, reports are referred for an assessment when a CPS agency determines that the risk of harm to the child is low. ACF has not yet decided whether the timeliness of initiating alternative response assessments will be included in the proposed measure. A concern is that not all States that implement an alternative response approach report these activities to the NCANDS Child File. ACF welcomes comment and suggestions from the field regarding this issue.

Safety Composite 1—Performance Area 4: Timeliness of Dispositions of Child Maltreatment Reports

Justification for inclusion: This performance area is included in Safety Composite 1 for the following reasons.

• Until an investigation is completed and the risk of harm to a child is fully assessed, States may not be in a position to identify the needs of the child and family accurately and to match services to the needs. This could affect the possibility of future maltreatment.

• When a disposition is not made in a timely manner and the agency receives a subsequent report of alleged maltreatment of the child, the lack of a disposition may affect the agency's ability to accurately evaluate the subsequent report since it may not have full information pertaining to the earlier investigation.

• It is not until the disposition that an agency's plan is sanctioned by the court. The court sanctioning ensures that the agency and the parents are aware that they are required to carry out the actions detailed in the plan.

Possible measures: The following two measures are under consideration.

• During the reporting year, of all children who were the subject of investigations conducted in response to reports alleging maltreatment, what was the mean (or median) length of time between receipt of the report and the disposition?

• During the reporting year, of all children who were the subject of investigations conducted in response to maltreatment reports, what percent had investigations that reached a disposition in various timeframes (e.g., 60 days from the time of receipt of the report, between 60 and 90 days, longer than 90 days).

ACF welcomes comments on the decision to begin the “disposition timeframe” with the receipt of the maltreatment report rather than with the initiation of the investigation.

Relevant issues: The proposed measures do not include information pertaining to assessments made as a result of an alternative response. Many States that implement an alternative response do not reach a disposition in these situations, even when the decision is made to open a case for services. Although the NCANDS Child File includes disposition categories of “Alternative Response Victim” and “Alternative Response Nonvictim,” only three States report Alternative Response Victims, and only nine report Alternative Response Nonvictims.

CFSR Safety Outcome 2: Children Are Safely Maintained in Their Homes Whenever Possible and Approrpriate

Safety Composite 2: Maltreatment of Children in Foster Care

Performance on Safety Composite 2 will be part of the assessment of a State's substantial conformity with CFSR Safety Outcome 2—Children are safely maintained in their own homes whenever possible and appropriate. Although the wording of CFSR Safety Outcome 2 specifies the safety of children maintained in their own homes, the outcome also applies to maintaining children safely while they are in the “homes” in which they are placed by the child welfare agency, including licensed foster family homes, relative homes, group homes, or institutions. The composite reflects the primary responsibility of a child welfare system to ensure that children are not victims of maltreatment while they are under the care and placement responsibility of the State.

The following two performance areas are under consideration for this composite:

• Maltreatment of children in foster care by a foster parent or facility staff member.

• Maltreatment of children in foster care by their parents.

Safety Composite 2—Performance Area 1: Maltreatment of Children in Foster Care by a Foster Parent or Facility Staff Member

Justification for inclusion: ACF, and the public in general, expect State child welfare agencies to ensure that State-appointed caregivers of children in foster care do not abuse or neglect the children placed in their care.

Possible measure: Of all children who were in foster care during the reporting period, what percent was the subject of substantiated or indicated maltreatment by a foster parent or facility staff member?

Relevant issues: This measure was used to assess maltreatment of children in foster care during the first round of CFSRs. Some concern was expressed by the field that the measure inadvertently includes children who were maltreated by foster care providers or facility staff members but who were not in foster care with the State child welfare system at the time of the maltreatment (i.e., the children were in another system or they were in private foster or facility care). A recent requirement that all children in an NCANDS Child File have an AFCARS identification number will permit an identification of these children so that they can be excluded from the measure.

Some CFSR workgroup participants recommended that there be separate measures for maltreatment of children in foster care by a foster parents and maltreatment by a facility staff member. However, a review of the data found that the incidence of maltreatment by these “perpetrator types” taken separately is too small to constitute meaningful measures.

Some CFSR workgroup participants also recommended that ACF develop a measure that identifies the extent of maltreatment of children who are placed by the State with relatives as foster caregivers, including relatives who are licensed foster parents and relatives who are not licensed foster parents. At present, the NCANDS Child File does not allow for this level of detail regarding relative perpetrators. Although a relative may be identified in NCANDS as a perpetrator, it is not possible to determine whether the relative also was the child's State-appointed caretaker. Similarly, a licensed foster parent may be identified as the perpetrator, but it is not possible to determine whether the licensed foster parent also is a relative.

Safety Outcome 2—Performance Area 2: Maltreatment of Children in Foster Care by Their Parents

Justification for inclusion: State child welfare agencies are responsible for ensuring that any safety concerns regarding parental contacts with a child in foster care are appropriately addressed. An analysis of NCANDS Child File data using matching AFCARS identification numbers found that in FY 2003, a substantial number of children who were the victims of maltreatment by a parent were in foster care for at least 30 days before the date of the maltreatment report. In most States, the number of these children was considerably larger than the number of children who were victims of maltreatment by foster parents or facility staff.

Possible measure: Of all children who were in foster care for longer than 30 days during the reporting year, what percent were the subject of a substantiated or indicated maltreatment report in which the perpetrator was the parent and the report was received after the child had been in foster care for at least 30 days?

Relevant issues: The proposed measure uses the maltreatment report date as a “proxy” for the date of the maltreatment itself. Because children entering foster care sometimes report maltreatment events that occurred prior to entry, the measure excludes maltreatment reports involving parent perpetrators that were received during the first 30 days that the child was in foster care. The 30-day “exclusion” is based on analysis of NCANDS data demonstrating a substantial decline in the number of children in foster care reported as being maltreated by a parent after the first 7 days the child is in foster care, a more moderate decline in this number from 8 to 30 days after entry into foster care, and then a leveling off after 30 days.

Although the most recent version of the NCANDS Child File includes a data element pertaining to the date of the maltreatment incident, States are not yet consistently reporting this new data element. When States report information pertaining to the maltreatment incident date in a consistent manner, the measure of maltreatment of children in foster care by their parents can be revised to incorporate the incident date and it will no longer be necessary to incorporate a 30-day exclusion.

CFSR Permanency Outcome 1: Children Have Permanency and Stability in Their Living Situations

Permanency Composite 1: Timeliness and Permanency of Reunifications

Performance on Permanency Composite 1 will be part of the determination of a State's substantial conformity with CFSR Permanency Outcome 1—Children will have permanency and stability in their living situations. The composite addresses State child welfare system's performance with regard to promoting a safe, timely, and permanent family reunification by assisting families to resolve the problems that resulted in the children being removed from the home. The performance areas under consideration for the composite are the following:

• Timeliness of reunifications of children exiting foster care in a given fiscal year.

• Timeliness of reunifications of children entering foster care in a given fiscal year.

• Permanency of reunifications.

Permanency Composite 1—Performance Area 1: Timeliness of Reunifications of Children Exiting Foster Care

Justification for inclusion: Exits from foster care represent the outcomes experienced by children in foster care, and exits to reunification reflect an agency's success with regard to its function of promoting the reintegration of the family. A primary goal of ACF and the Adoption and Safe Families Act of 1997 (ASFA) is to ensure that children do not remain in foster care any longer than is necessary to achieve permanency. Information about the timeliness of children exiting foster care to reunification provides a basis for assessing State performance in achieving this goal.

Possible measures: A number of measures are under consideration for this performance area, with each addressing a particular variation in State practices and policies pertaining to reunification. For each measure, we are proposing two possible approaches to assessing timeliness to reunification. One approach that was used in the first round of the CFSR reflects an expectation that 12 months is a sufficient amount of time to bring about a reunification for most children. The second approach examines timeliness to reunification as a function of a State's median length of stay in foster care for all children exiting foster care to reunification, with the expectation that the distribution of these median across States would be used to set a performance expectation. Both approaches are included in each of the following measures and ACF welcomes input from the field regarding these approaches.

• During the reporting year, of all children reunified with their parents or caretakers at the time of discharge from foster care, (1) what percent were reunified in less than 12 months from the time of the latest removal from home? OR, (2) what was the median length of stay in foster care (in months) of all children exiting to reunification? A frequent criticism of this measure is that it does not account for variations in State practices and policies that impact the time between entry into foster care and exit to reunification. The following measures are designed to address these concerns.

• During the reporting year, of all children reunified with their parents or caretakers at the time of discharge from foster care who were in foster care for more than 7 days (at least 8 days), (1) what percent were reunified in less than 12 months from the time of the latest removal from home? OR, (2) what was the median length of stay in foster care (in months) for these children? This measure is intended to address variations among States with regard to the practice of removing a child from his or her home at the onset of a maltreatment investigation until an initial court hearing is held to determine whether the child should be returned home or remain in foster care.

• During the reporting year, of all children reunified with their parents or caretakers at the time of discharge from foster care who were in foster care for more than 30 days (at least 31 days), (1) what percent were reunified in less than 12 months from the time of the latest removal from home? OR (2) what was the median length of stay in foster care (in months) for these children? This measure addresses another type of variation among States. Some States tend to remove a child from his or her home while providing very short-term services to the family in response to a family crisis. In contrast, other States, in a similar situation, tend to provide services to resolve the crisis while the child remains in the home, if it is safe to do so. This measure is designed to assess timeliness of reunifications for children and families who may need more than very short-term services to resolve the issues leading to removal. An analyses of the data found that when performance on this measure is compared to performance on the existing CFSR measure of reunification, five States drop out of the top quartile with regard to the percent of reunifications occurring within 12 months of a child's entry into foster care.

• During the reporting year, of all children reunified with their parents or caretakers at the time of discharge from foster care, (1) what percent either were reunified in less than 12 months from the time of the latest removal from home or were placed in a trial home visit within 11 months of removal and whose last placement setting prior to discharge was a Trial Home Visit, OR (2) what was the median length of stay in foster care (in months) of children exiting to reunification or of children whose placement was a Trial Home Visit at least 30 days prior to reunification. Under the AFCARS definitions, a child can be reported as discharged from foster care to reunification only after the court discharges the agency's responsibility for the child (or 6 months after the child's return in certain circumstances). However, some States maintain placement and care responsibility of children for a period of time after physical reunification, usually ranging from 3 to 6 months, in order to provide services and ongoing monitoring. ACF has instructed States to report these children to AFCARS as being in a Trial Home Visit placement setting. This measure is designed to assess timeliness to reunification in a manner that accounts for this difference in State practice. An analysis of the data found that when this measure was used to assess timeliness to reunifications, 13 States exhibited substantial improvements in performance, while no State exhibited a decline in performance.

Relevant issues: Although the measures are presented separately for review and comment, ACF is considering the possibility of combining some of the variables of concern into one measure. For example, the measure incorporating children in a trial home visit also could include a requirement that the child be in foster care for more than 30 days.

Permanency Composite 1—Performance Area 2: Timeliness of Reunifications for Children Entering Foster Care in a Given Fiscal Year

Justification for inclusion: Assessment of the timeliness of reunifications of children who enter foster care in a given timeframe (i.e., an entry cohort) will allow ACF to capture the success of recently implemented State efforts to reunify children in a timely manner.

Possible measures: Two measures are under consideration. Neither one include an approach involving the assessment of median length of stay in foster care because it may be several years before all, or even a substantial percentage, of the children in a particular cohort will have exited foster care.

• Of all children entering foster care for the first time in the first 6 months of the reporting year, what percent exited foster care to reunification within 12 months of entry into foster care?

• Of all children entering foster care for the first time in the first 6 months of the reporting year, what percent exited foster care to reunification after having been in foster care for at least 30 days but less than 12 months?

Relevant issues: ACF believes that the assessment of timeliness to reunification of children entering foster care in a given year is an important component of assessing State performance in this domain. However, because not all children in a given entry cohort are destined to be reunified with their families, the denominator for the entry cohort measure often includes children for whom reunification is not the outcome. Because the percentage of those children will vary across States and over time, the measure must be interpreted with caution and should be used in conjunction with an assessment of timeliness to reunification of an exit cohort.

Permanency Composite 1—Performance Area 3: Permanency of Reunifications

Justification for inclusion: The permanency of reunifications may be assessed by the extent of a State's re-entries into foster care. A reunification, even if it occurs in a timely manner, cannot be considered as “permanent” if the child re-enters foster care within a 12-month period after the reunification. A consistent finding over the years, as reported in the Report to Congress on Child Welfare Outcomes, is that States with a relatively high percentage of children reunified within 12 months also tend to have a relatively high percentage of children re-entering foster care within 12 months of a prior episode, although this is not the case for all States.

Possible measure: Of all children who exit foster care to reunification (including living with a relative) in a fiscal year, what percent re-enter foster care within 12 months of the time of exit?

Relevant issues: This measure is a revision of the one used to assess foster care re-entry during the first round of the CFSR. At the time the original measure was developed, it was not feasible through AFCARS to consistently and reliably link children across years for every State. Consequently the existing re-entry measure focused on the percentage of children entering foster care who were reported to be re-entering foster care and whose re-entry occurred within 12 months of a prior episode. Because it is now possible to link children across years in AFCARS and to capture children re-entering foster care by an AFCARS identification number, the measure has been changed to one that is conceptually more meaningful.

Permanency Composite 2: Timeliness of Adoptions

Performance on Permanency Composite 2 will be a part of the determination of a State's substantial conformity with CFSR Permanency Outcome 1—Children will have permanency and stability in their living situations. The composite reflects ACF's emphasis on promoting timely adoptions for those children in foster care who cannot be reunified with their families. The composite also reflects the requirement of ASFA that States pursue TPR for children who have been in foster care for 15 of the most recent 22 months, unless the child is placed with relatives, the State agency has not provided necessary services, or there are documented compelling reasons for not seeking TPR.

The following performance areas are under consideration for Permanency Composite 2:

• Timeliness of finalized adoptions of children discharged from foster care.

• Timeliness of finalized adoptions of children who are in foster care for 17 months or more at the start of a fiscal year.

• Timeliness of finalized adoptions of children for whom a TPR has been granted.

• Timeliness of achieving TPR for children who have been in foster care for 17 months or more at the start of a fiscal year.

Although CFSR workgroup participants recommended that ACF assess timeliness to adoption using an entry cohort (i.e., children who enter foster care in a particular time period), the results of our analyses indicated that an entry cohort approach to assessing the timeliness of adoptions is not feasible for the CFSR. The key results were the following:

• An extensive timeframe was required to a cohort of children from entry into foster care to a finalized adoption and the timeframe is not consistent with the CFSR timeframes. For example, in following a cohort of children entering foster care in FY 2001, meaningful data pertaining to adoptions did not emerge until 3 years after the entry year.

• Because not all children entering foster care will be adopted, and because the number of children waiting to be adopted changes each year, it is not possible to establish a stable denominator for a cohort measure. In following the FY 2001 cohort, we found that the denominator for the measure of timeliness to adoption kept changing on an ongoing basis as children in the original cohort were reunified or exited foster care for other reasons.

Some researchers in the field using an entry cohort to assess a State's performance with regard to the timeliness of adoptions have addressed the problems noted above by employing statistical methods to estimate the “likelihood” of children who enter foster care in a given year being adopted within particular timeframes. ACF determined that because the CFSR is a monitoring system and not a research initiative, the use of estimates is not appropriate. A monitoring system, particularly one that has financial penalties associated with it, should be based on actual performance rather than on estimates of the likelihood of particular events occurring within a particular timeframe.

Although we have decided that an entry cohort analysis is not appropriate for Permanency Composite 2, some of the performance areas proposed for this composite involve longitudinal assessments of progress toward adoption of a group of children that may be considered a cohort (i.e., all children who have been in foster care for 17 months or longer at the end of a fiscal year; or all children whose TPR occurs during a given fiscal year).

Permanency Composite 2—Performance Area 1: Timeliness of Adoptions of Children Discharged From Foster Care to a Finalized Adoption

Justification for inclusion: Exits to adoption reflect the success of a child welfare agency in achieving permanency for those children who cannot be returned to their families. A primary goal of ACF is to ensure that children who are adopted do not remain in foster care any longer than is necessary to achieve a finalized adoption. Information about the percentage of children exiting foster care to a finalized adoption who exit in a timely manner as well as about the percentage of children who are adopted, but not in a timely manner, provides a means of assessing State performance with regard to achieving this goal.

Possible measures: The following three measures are under consideration for this performance area:

• Of all children who exited foster care to a finalized adoption during the reporting period, what percent exited foster care in less than 24 months from the time of the latest removal from home? This measure was used to assess timeliness of adoption during the first CFSR round.

• Of all children who exited foster care to a finalized adoption during the reporting period, what percent was in foster care for 48 months or more before exiting to adoption?

• Of all children who exited foster care to a finalized adoption during the reporting period, what was the median length of stay in foster care (in months)?

Relevant issues: Some CFSR workgroup participants recommended that the CFSR assessment include measures that examine timeliness of adoptions for children of different age groups and different races/ethnicities. Although ACF has determined that this level of analysis is beyond the scope of the CFSR, States are encouraged to examine their own adoption data in order to understand the relationships between these factors and adoption timeliness. States vary considerably with regard to the distribution of ages and races/ethnicity among their foster care populations, and therefore the relationships between these factors and adoption timeliness also may vary.

Permanency Composite 2—Performance Area 2: Timeliness of Adoptions of Children Who Are in Foster Care for 17 Months or Longer at the Start of a Fiscal Year

Justification for inclusion: This performance area assesses progress toward adoption of a cohort of children who have been in foster care for 17 months or longer. ASFA requires State child welfare agencies to pursue adoption as a permanency goal for a child who has been in foster care for 15 of the most recent 22 months, except in limited circumstances. A 17-month rather than a 15-month timeframe was chosen for the performance area because, in accordance with ASFA, a child is considered to have “entered foster care” (for purposes of starting the clock for 15 of 22 months) on the earlier of:

(1) The first judicial finding that the child has been subjected to abuse and neglect, or

(2) The date that is 60 days after the date on which the child is removed from home.

The 17 months in the performance area reflects the latter timeframe for defining entry into foster care because AFCARS does not collect information pertaining to the date of the first judicial finding.

Possible measure: Of all children in foster care on the first day of a given fiscal year who were in foster care for 17 continuous months or longer, what percent were adopted before the end of the fiscal year.

Relevant issues: The proposed measure is based on the assumption that children who have been in foster care for 17 months or longer represent a somewhat stable denominator. (However, even after 17 months in foster care the denominator is not entirely stable because many children in the cohort will exit to reunification.) Although it would be preferable to include in the measure only those children in foster care for 17 months or longer who have a case goal of adoption, States do not consistently report case goal information to AFCARS and AFCARS does not have a data element pertaining to the date that a case goal is established. Also, in some States, the goal of adoption is not formally established until TPR has been achieved although adoption may be the goal that the agency is working toward.

Permanency Composite 1—Performance Area 3: Timeliness of Adoptions of Children for Whom Parental Rights Have Been Terminated

Justification for inclusion: The two timeframes that are critical to the timeliness of adoptions are (1) the timeframe between entry into foster care and TPR, and (2) the timeframe between TPR and adoption finalization. This performance area addresses the latter timeframe and reflects ACF's expectation that a finalized adoption should occur quickly after TPR is granted. An analysis of AFCARS data indicated that, nationally, from FY 1998 to FY 2003, the average time from TPR to adoption has remained consistent at about 16 months.

Possible measure: Of all children for whom a TPR was granted during a given fiscal year, what percent were adopted within 12 months of the TPR?

Relevant issues: An analysis of existing data relevant to this measure resulted in the identification of the following data issues: (1) In their submissions to the AFCARS Foster Care File, some States are reporting a substantial number of TPR dates after the reporting period in which they actually occurred, and (2) in FY 2003, States did not provide TPR dates in their AFCARS Foster Care File submissions for over one-fifth of the children whose discharge reason was adoption. Although these data problems do not appear in the data submitted to the AFCARS Adoption File, because the AFCARS Foster Care File will be used to calculate the measure for this performance area, it is important that States are more diligent, timely, and consistent in their reporting of the AFCARS Foster Care File data elements pertaining to TPR.

Permanency Composite 2—Performance Area 4: Timeliness of TPR for Children Who Have Been in Foster Care for 17 Months or Longer at the Start of a Fiscal Year

Justification for inclusion: This performance area pertains to the timeframe required to achieve a TPR for children in foster care for 17 months or longer. The performance area is consistent with the ASFA requirement that TPR should be sought for children who have been in foster care for 15 of the most recent 22 months, except in limited circumstances.

Possible measure: Of all children in foster care for 17 months or longer on the first day of the fiscal year who did not have a TPR, what percentage of those who remained in foster care for the next 6 months had a TPR within that timeframe?

Relevant issues: National data regarding time to adoption indicates that the time span between the time of entry into foster care and the finalization of a TPR petition has decreased from FY 1998 to FY 2003 by an average of 10 months. Inclusion of this performance area in Permanency Composite 2 will permit an assessment of an individual State's performance with regard to this timeframe.

Permanency Composite 3: Placement Stability

Performance on Permanency Composite 3 will be one component of the determination of a State's substantial conformity with CFSR Permanency Outcome 1—Children will have permanency and stability in their living situations. The composite reflects the obligation of a State child welfare system to ensure that children who are removed from their homes by the State experience stable placements during their time in foster care. The following performance areas are under consideration for Permanency Composite 3:

• Stability of children's placement experience during the first year in foster care

• Stability of children's placement experience for children in care for longer than 12 months

Proposed Stability Performance Area 1: Stability of Children's Placement Experience During the First Year in Foster Care

Justification for inclusion: This performance area addresses the issue of achieving placement stability for children as quickly as possible after entry into foster care.

Possible measure: During the reporting period, of all children who have been in foster care for less than 12 months from the time of the latest removal from home, what percent have had no more than 2 placement settings?

Relevant issues: Some CFSR workgroup participants suggested that this measure does not take into account variations in time in care within the 12-month period or consider some States' practices of routinely placing children in foster care for short periods of time. To address this concern, ACF examined the data for this measure in the following ways: (1) Excluding children who had been in foster care for only 1 month, and (2) excluding children who had been in care for only 3 months. The correlations between State performance on the measure of placement stability within 12 months, and performance on this measure using the 1-month and 3-month exclusion exceeded +0.95, indicating little variation among the measures. As a result, ACF decided that the existing measure was adequate to reflect variation in State performance regarding placement stability during the first 12 months in foster care.

Permanency Composite 3—Performance Area 2: Stability of Children's Placement Experience for Children in Care for Longer Than 12 Months

Justification for inclusion: ACF believes that children should experience placement stability throughout their stay in foster care. However, analyses of the AFCARS data indicated that in most States, the percentage of children who experience no more than 2 placement settings declines considerably (in some States by half) when children have been in foster care for at least 12 months but less than 24 months, and continues to exhibit a substantial decline for those children in foster care for 24 months or longer.

Possible measure: Two measures are under consideration for this performance area.

• During the reporting period, of all children who have been in foster care for at least 12 months but less than 24 months, what percent have had no more than 2 placement settings?

• During the reporting period, of all children who have been in foster care for 24 months or longer, what percent have had no more than 2 placement settings?

Permanency Composite 4: Achieving Permanency for Children

Performance on Permanency Composite 4 will be part of the determination of a State's substantial conformity with CFSR Permanency Outcome 1—Children will have permanency and stability in their living situations. The composite reflects the responsibility of the State child welfare systems to engage in concerted efforts to find permanent homes for children so that extended stays in foster care are avoided and children do not “age out” of the system. The following performance areas are under consideration for Permanency Composite 4:

• The extent to which children are “growing up” in foster care.

• Timeliness of establishing permanency goals.

• The extent to which children with TPR exit foster care to a permanent family.

Permanency Composite 4—Performance Area 1: Children Growing Up in Foster Care

Justification for inclusion: This performance area addresses the question of State effectiveness with regard to ensuring that children do not “languish” in foster care—i.e., entering foster care at a relatively young age and exiting foster care only when they have reached the age at which the State will not longer provide for their care.

Possible measure: Of all children who were emancipated from foster care prior to age 18 or who reached their 18th birthday while in foster care, what percent entered foster care when they were age 12 or younger and remained in foster care continuously since that entry?

Relevant issues: This measure is a modification of a measure that is part of the Report to Congress on Child Welfare Outcomes. The modification adds to the measure children who reached their 18th birthday while in foster care. The modification was established because Several States currently allow children to remain in foster care beyond age 18, often to complete school or college. The modification will ensure that these children are included in the measure if they entered foster care when they were age 12 or younger even if they have not yet exited foster care.

Permanency Composite 4—Performance Area 2: Timeliness of Establishing Permanency Goals

Justification for inclusion: A key factor in moving a child toward permanency is the establishment of a permanency goal. The permanency goal is the basis for developing a case plan delineating the services to be provided and the objectives to be achieved to reach the goal. A Federal requirement is that a case plan be established for every child who is in foster care for longer than 60 days and that the case plan includes the agency's plan for achieving permanency for the child.

Possible measure: Of all children in foster care for longer than 12 months, what percentage is reported to AFCARS as “Not Yet Determined” with regard to the case goal?

Relevant issues: An analysis of data relevant to this measure indicated that there are a number of States that have a relatively high percentage of children for whom the data element regarding case goal is reported as “not yet determined.”

Permanency Composite 4—Permanency Area 3: Exits to Families of Children With TPR

Justification for inclusion: This performance area is an important component of Permanency Composite 4 because it addresses the issue of whether seeking TPR for children results in children becoming “legal orphans” (i.e., children with TPR who are not placed for adoption or guardianship or placed with relatives and eventually emancipate from foster care). TPR is a costly process, both financially and, for the child, emotionally. To engage in that process with the end result that a child does not exit foster care to a family would be contrary to the best interests of the child in most situations.

Possible measure: Of all children exiting foster care with a TPR, what percentage exited to a permanent family? (A permanent family includes living with a parent, relative, guardian, or adoptive parents.)

Relevant issues: Although in most States, the vast majority of children with TPR exit foster care to a permanent family, there are several States in which 15 to 20 percent of these children do not exit to a family. This suggests that the child welfare agency in those States may not be making sufficient efforts to ensure that children with TPR achieve permanency.

Dated: October 31, 2005.
Joan E. Ohl,
Commissioner, Administration on Children, Youth and Families.

Attachment A: Outcomes and Measures Developed for the Annual Report to Congress on Child Welfare Outcomes and the Outcomes and Items Assessed by the Child and Family Services Review

The outcomes and measures presented in the report to Congress are the following:

Child Welfare Outcome 1

Reduce Recurrence of Child Abuse and/or Neglect

Measure 1.1: Of all children who were victims of substantiated or indicated child abuse and/or neglect during the first 6 months of the reporting period, what percentage had another substantiated or indicated report within a 6-month period?

Child Welfare Outcome 2

Reduce the Incidence of Child Abuse and/or Neglect in Foster Care

Measure 2.1: Of all children who were in foster care during the reporting period, what percentage was the subject of substantiated or indicated maltreatment by a foster parent or facility staff?

Child Welfare Outcome 3

Increase Permanency for Children in Foster Care

Measure 3.1: For all children who exited foster care, what percentage left either to reunification, adoption, or legal guardianship?

Measure 3.2: For children who exited foster care and were identified as having a diagnosed disability, what percentage left either to reunification, adoption, or legal guardianship?

Measure 3.3: For children who exited foster care and were older than age 12 at the time of their most recent entry into care, what percentage left either to reunification, adoption, or legal guardianship?

Measure 3.4: Of all children exiting foster care to emancipation, what percentage was age 12 or younger at the time of entry into care?

Measure 3.5: For all children who exited foster care, what percentage by racial/ethnic category left either to reunification, adoption, or legal guardianship?

Child Welfare Outcome 4

Reduce Time in Foster Care to Reunification Without Increasing Re-entry

Measure 4.1: Of all children who were reunified with their parents or caretakers at the time of discharge from foster care, what percentage was reunified in the following time periods?

(1) Less than 12 months from the time of latest removal from home

(2) At least 12 months, but less than 24 months

(3) At least 24 months, but less than 36 months

(4) At least 36 months, but less than 48 months

(5) 48 or more months

Measure 4.2: Of all children who entered foster care during the reporting period, what percentage re-entered care:

(1) Within 12 months of a prior foster care episode?

(2) More than 12 months after a prior foster care episode?

Child Welfare Outcome 5

Reduce Time in Foster Care to Adoption

Measure 5.1: Of all children who exited foster care to a finalized adoption, what percentage exited care in the following time periods?

(1) Less than 12 months from the time of latest removal from home

(2) At least 12 months, but less than 24 months

(3) At least 24 months, but less than 36 months

(4) At least 36 months, but less than 48 months

(5) 48 or more months

Child Welfare Outcome 6

Increase Placement Stability

Measure 6.1: Of all children served who had been in foster care for the time periods listed below, what percentage had no more than two placement settings during that time period?

(1) Less than 12 months from the time of latest removal from home

(2) At least 12 months, but less than 24 months

(3) At least 24 months, but less than 36 months

(4) At least 36 months, but less than 48 months

(5) 48 or more months

Child Welfare Outcome 7

Reduce Placements of Young Children in Group Homes or Institutions

Measure 7.1: For all children who entered foster care during the reporting period and were age 12 or younger at the time of their most recent placement, what percentage was placed in a group home or an institution?

The outcomes and systemic factors assessed through the Child and Family Services Review are the following:

Child and Family Outcomes

Safety Outcome 1: Children are, first and foremost, protected from abuse and neglect.

Safety Outcome 2: Children are safely maintained in their homes whenever possible and appropriate.

Permanency Outcome 1: Children have permanency and stability in their living situations.

Permanency Outcome 2: The continuity of family relationships and connections is preserved for children.

Child and Family Well-being Outcome 1: Families have enhanced capacity to provide for their children's needs.

Child and Family Well-being Outcome 2: Children receive appropriate services to meet their educational needs.

Child and Family Well-being Outcome 3: Children receive adequate services to meet their physical and mental health needs.

Systemic Factors

Statewide Information System

Case Review System

Quality Assurance System

Training (for child welfare agency staff and foster and adoptive parents)

Service Array

Agency Responsiveness to the Community

Foster and Adoptive Parent Licensing, Recruitment, and Retention

Attachment B: Comparison of CFSR Measures Used in Round 1, and Proposed CFSR Data Composites for the Next Round

CFSR Safety Outcome 1
Current CFSR data measures and standard associated with CFSR Safety Outcome 1 | Proposed composite to be associated with CFSR Safety Outcome 1
Recurrence of maltreatment: Measure and national standard: Of all children who were victims of a substantiated or indicated child maltreatment report during the first 6 months, 6.1 percent of fewer were victims of another substantiated or indicated report within a 6-month period | Safety Composite 1: Recurrence of maltreatment. A national standard will be established from the data composite scores resulting from States' performance on the areas incorporated in the composite. Some possible performance areas to be included in the composite are: • Performance area 1: Recurrence of substantiated or indicated maltreatment reports. • Performance area 2: Multiple unsubstantiated maltreatment reports. • Performance area 3: Timeliness of initiating investigations of child maltreatment reports. • Performance area 4: Timeliness of disposition of child maltreatment reports.
Maltreatment of children in foster care: Measure and national standard—Of all children in foster care during the reporting year, 0.57 percent or less were the subject of a substantiated or indicated maltreatment by a foster parent or facility staff member | See safety composite 2. (No data composite for maltreatment in foster care is proposed for Safety Outcome 1. Instead, for the next CFSR round, State data pertaining to maltreatment of children in foster care will be addressed under CFSR Safety Outcome 2.)

CFSR Safety Outcome 2
Current CFSR data measures and standard associated with CFSR Safety Outcome 2 | Proposed composite to be associated with CFSR Safety Outcome 2
No data measure or national standard was associated with this Safety Outcome in the first CFSR round | Safety Composite 2: Maltreatment of children in foster care. The national standard will be established from the composite scores derived from States' performance on the areas included in the composite. Some possible performance areas for inclusion are the following: • Performance area 1: Maltreatment of children in foster care by a foster parent or facility staff member. • Performance area 2: Maltreatment of children in foster care by their parents.

CFSR Permanency Outcome 1
Current CFSR data measures and standards associated with CFSR Permanency Outcome 1 | Proposed composites to be associated with Permanency Outcome 1
Timeliness of reunification measure and national standard: of all children exiting foster care to reunification, 76.2 percent or more exited within 12 months of entry into foster care Re-entry into foster care measure and national standard: of all children entering foster care, 8.6 percent or less were re-entering within 12 months of a prior episode | Permanency Composite 1: Timeliness and permanency of reunification. A national standard will be established from the data composite scores resulting from States' performance on the areas incorporated in the composite. Some possible performance areas to be included in the composite are: • Performance area 1: Timeliness of reunifications of children exiting foster care in a given fiscal year. • Performance area 2: Timeliness of reunifications of children entering foster care in a given fiscal year. • Performance area 3: Permanency of reunifications.
Timeliness of adoption measure and national standard: of all children exiting foster care to a finalized adoption, 32.0 percent or more achieved a finalized adoption within 24 months of the time of entry into foster care | Permanency Composite 2: Timeliness of adoption. A national standard will be established from the data composite scores resulting from States' performance on the areas incorporated in the composite. Some possible performance areas to be included in the composite are: • Performance area 1: Timeliness of adoptions of children discharged from foster care to a finalized adoption. • Performance area 2: Timeliness of adoptions of children who are in foster care for 17 months or longer at the start of a fiscal year. • Performance area 3: Timeliness of adoptions of children for whom parental rights had been terminated. • Performance area 4: Timeliness of achieving termination of parental rights for children who have been in foster care for 17 months or more at the start of a fiscal year.
Placement stability measure and national standard: of all children in foster care who have been in care for less than 12 months, 86.7 percent or more had no more than 2 placement settings | Permanency Composite 3: Placement stability. A national standard will be established from the data composite scores resulting from States' performance on the area incorporated in the composite. Some possible performance areas to be included in the composite are: • Performance area 1: Stability of children's placement experience during the first year in foster care. • Performance area 2: Stability of children's placement experience for children in foster care for longer than 12 months.
No national standard measure. Information captured in the case review instrument | Permanency Composite 4: Achieving Permanency for Children in Foster Care. A national standard will be established from the data composite scores resulting from States' performance on the areas incorporated in the composite. Some possible performance areas to be included in the composite are: • Performance area 1: The extent to which children are growing up in foster care. • Performance area 2: Timeliness of establishing permanency goals. • Performance area 3: The extent to which children with TPR exit foster care to a permanent family.

[FR Doc. 05-22095 Filed 11-4-05; 8:45 am]

BILLING CODE 4184-01-P